DEPARTMENT OF ENERGY

Federal Energy Regulatory Commission

[Project No. 13729-000]

Energy Exchange, Inc.; Notice of Preliminary Permit Application Accepted for Filing and Soliciting Comments, Motions To Intervene, and Competing Applications

August 23, 2010.

On May 11, 2010, and supplemented on July 20, 2010, Energy Exchange, Inc. filed an application, pursuant to section 4(f) of the Federal Power Act (FPA), proposing to study the feasibility of the Tacoma Water Supply Hydroelectric Project (Tacoma Project). The Tacoma Project would be located within the city of Tacoma in Pierce County, Washington on an existing water conveyance system.

The Tacoma Project would consist of: (1) Two existing 60-inch diameter pipelines that originate at the Green River headworks at the lower end of the Green River Watershed; (2) two new powerhouses to be located at two points along the pipelines with one 1.8-megawatt (MW) turbine/generating unit at each; (3) a new three-phase transmission line (voltage to be determined) connecting to the nearest tie-in point of a local utility. The project would produce an estimated average annual generation of about 31,000 megawatt-hours.

Applicant Contact: Duane Pratt, Energy Exchange, Inc., 2711 Centerville Rd., Suite 120—PMB 7023, Wilmington, DE 19808; phone (208) 371-1285.

FERC Contact: Patrick Murphy (202) 502-8755.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site. http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13729-000) in the docket number field to access the document. For assistance, contact FERC Online Support.

Kimberly D. Bose,
Secretary.

[FR Doc. 2010-21464 Filed 8-27-10; 8:45 am]

BILLING CODE 6717-01-P